LEGAL SERVICES CORPORATION

Board of Directors Operations and Regulations Committee; Sunshine Act Meeting

TIME AND DATE: The Operations and Regulations Committee of the Legal Services Corporation Board of Directors will meet on May 31, 2002. The meeting will begin at 2:30 p.m. and continue until the Committee concludes its agenda.

LOCATION: The Melrose Hotel, 2430 Pennsylvania Avenue, NW., Washington, DC.

STATUS OF MEETING: Open.

MATTERS TO BE CONSIDERED: 1. Approval of agenda.

2. Approval of the minutes of the Committee's meeting of April 5, 2002.

3. Staff report on the status of Current Negotiated Rulemakings: 45 CFR Part 1626 (Restrictions on Legal Assistance to Aliens); and 45 CFR Part 1611 (Eligibility).

4. Staff report on the publication of a Final Rule at 45 CFR Part 1639 (Welfare Reform).

5. Consider and act on changes to the title and qualifications for the position of Vice President for Administration.

6. Consider and act on appointment of acting Vice President for Compliance and Administration (formerly Vice President for Administration).

7. Consider and act on other business.

8. Public comment.

CONTACT PERSON FOR INFORMATION: Victor M. Fortuno, Vice President for Legal Affairs, General Counsel & Corporate Secretary, at (202) 336-8800.

SPECIAL NEEDS: Upon request, meeting notices will be made available in alternate formats to accommodate visual and hearing impairments. Individuals who have a disability and need an accommodation to attend the meeting may notify Elizabeth S. Cushing, at (202) 336-8800.

Dated: May 24, 2002.
Victor M. Fortuno,
Vice President for Legal Affairs, General Counsel & Corporate Secretary.

[FR Doc. 02-13563 Filed 5-24-02; 2:22 pm]

BILLING CODE 7050-01-P